DEPARTMENT OF EDUCATION

Office of Postsecondary Education

Overview Information; Training Program for Federal TRIO Programs (Training Program); Notice Inviting Applications for New Awards for Fiscal Year (FY) 2004

Catalog of Federal Domestic Assistance (CFDA) Number: 84.103A.

Dates:

Applications Available: May 6, 2004.

Deadline for Transmittal of Applications: June 28, 2004.

Deadline for Intergovernmental Review: August 27, 2004.

Eligible Applicants: Institutions of higher education and other public and private nonprofit institutions and organizations.

Estimated Available Funds: $6,000,000.

Estimated Range of Awards: $300,000-$500,000.

Estimated Average Size of Awards: $400,000.

Maximum Award: We will reject any application that proposes a budget exceeding the maximum amount listed for each of the five absolute priorities, listed below, for a single budget period of 12 months:

Priority 1: $500,000;

Priority 2: $500,000;

Priority 3: $300,000;

Priority 4: $400,000; and

Priority 5: $300,000.

The Assistant Secretary for Postsecondary Education may change the maximum amount through a notice published in the Federal Register.

In addition, successful applicants must provide training to at least one trainee for each $1,500 awarded, unless we specifically approve another amount.

Estimated Number of Awards: 10-15.

Note: The Department is not bound by any estimates in this notice.

Project Period: Up to 24 months.

Full Text of Announcement

I. Funding Opportunity Description

Purpose of Program: To improve the operation of projects funded under the Federal TRIO Programs, the Training Program provides grants to train staff and leadership personnel employed in, participating in, or preparing for employment in projects funded under the TRIO Programs.

Priorities: In accordance with 34 CFR 75.105(b)(2)(iv) and 34 CFR 75.105(b)(2)(ii), these priorities are from section 402G(b) of the Higher Education Act of 1965, as amended (HEA); and the regulations for this program (34 CFR 642.34). Each successful applicant must provide at least one training session on each requisite topic listed within a specific priority that is tailored to the needs of TRIO staff with less than two years of TRIO project experience.

Each application must clearly identify the specific priority number for which a grant is requested, and must address each of the topics listed under that specific priority. An application for a grant under a specific priority must not include information concerning any other priority. For example, an application for a grant under Priority 1 must address only training to improve budget management, recordkeeping and reporting student and project performance, and evaluation of project performance. The application should not include information concerning any other topic or priority.

Absolute Priorities: For FY 2004, these priorities are absolute priorities. Under 34 CFR 75.105(c)(3), we consider only applications that meet these priorities. These priorities are:

Priority 1. Training to improve: budget management; recordkeeping and reporting student and project performance; and evaluation of project performance.

Number of expected awards: 1-3.

Maximum award amount: $500,000.

Priority 2. Training on: the legislative and regulatory requirements for operation of the Federal TRIO Programs; personnel management; and student financial aid.

Number of expected awards: 1-3.

Maximum award amount: $500,000.

Priority 3. Training on: counseling; and retention and graduation strategies.

Number of expected awards: 1-3.

Maximum award amount: $300,000.

Priority 4. Training to coordinate project activities with other available resources and activities and training to design and operate a model TRIO project.

Number of expected awards: 1-3.

Maximum award amount: $400,000.

Priority 5. Training in the use of educational technology.

Number of expected awards: 1-3.

Maximum award amount: $300,000.

Maximum number of applications for a priority: An applicant may submit only one application for a grant under each priority. If an applicant submits more than one application under a specific priority, we will accept only the first application submitted and we will reject all other applications. Each application must clearly identify the specific priority number for which a grant is requested, and must address each of the topics listed under the specific priority. An application for a grant under a specific priority must not include information concerning any other priority. For example, an application for a grant under Priority 1 must address only training to improve budget management; record keeping and reporting student and project performance; and evaluation of project performance.

Program Authority: 20 U.S.C. 1070a-11 and 20 U.S.C. 1070a-17.

Applicable Regulations: (a) The Education Department General Administrative Regulations (EDGAR) in 34 CFR parts 74, 75, 77, 79, 80, 81, 82, 84, 85, 86, 97, 98, and 99. (b) The regulations for this program in 34 CFR part 642.

Note: The regulations in 34 CFR part 79 apply to all applicants except federally recognized Indian Tribes.

Note: The regulations in 34 CFR part 86 apply to institutions of higher education only.

II. Award Information

Type of Award: Discretionary grants.

Estimated Available Funds: $6,000,000.

Estimated Range of Awards: $300,000-$500,000.

Estimated Average Size of Awards: $400,000.

Maximum Award: We will reject any application that proposes a budget exceeding the maximum amount listed for each of the five absolute priorities, listed below, for a single budget period of 12 months:

Priority 1: $500,000;

Priority 2: $500,000;

Priority 3: $300,000;

Priority 4: $400,000; and

Priority 5: $300,000.

The Assistant Secretary for Postsecondary Education may change the maximum amount through a notice published in the Federal Register.

In addition, successful applicants must provide training to at least one trainee for each $1,500 awarded, unless we specifically approve another amount.

Estimated Number of Awards: 10-15.

Note: The Department is not bound by any estimates in this notice.

Project Period: Up to 24 months.

III. Eligibility Information

1. Eligible Applicants: Institutions of higher education and other public and private nonprofit institutions and organizations.

2. Cost Sharing or Matching: This competition does not involve cost sharing or matching.

3. Other: An applicant may submit only one application for a grant under each priority. Each application must clearly identify the specific priority number for which a grant is requested, and must address each of the topics listed under that specific priority. An application for a grant under a specific priority must not include information concerning any other priority.

Successful applicants will be expected to provide training to at least one trainee for each $1,500 awarded, unless we specifically approve another amount.

Each successful applicant also must provide at least one training session on each listed topic in a specific priority that is tailored to the needs of new project directors and TRIO staff with less than two years of TRIO project experience.

IV. Application and Submission Information

1. Address to Request Application Package: Patricia S. Lucas or Virginia A. Mason, U.S. Department of Education, 1990 K Street, NW., suite 7000, Washington, DC 20006-8510. Telephone: (202) 502-7600 or by e-mail: TRIO@ed.gov.

If you use a telecommunications device for the deaf (TDD), you may call the Federal Information Relay Service (FIRS) at 1-800-877-8339.

Individuals with disabilities may obtain a copy of the application package in an alternative format (e.g., Braille, large print, audiotape, or computer diskette) by contacting one of the program contact persons listed in this section.

2. Content and Form of Application Submission: Requirements concerning the content of an application, together with the forms you must submit, are in the application package for this competition. Page Limit: You must limit the entire application (cover to cover, including all required forms, assurances and certifications) to no more than 50 pages using the following standards:

• A “page” is 8.5″ x 11″, on one side only, with 1″ margins at the top, bottom, and both sides.

• Double space (no more than three lines per vertical inch) all text in the application in the application narrative, including titles, headings, footnotes, quotations, references, and captions. However, you may single space all text in charts, tables, figures, and graphs.

• Use a font that is either 12 point or larger or no smaller than 10 pitch (characters per inch).

We will reject your application if—

• You apply these standards and exceed the page limit; or

• You apply other standards and exceed the equivalent of the page limit.

3. Submission Dates and Times:

Applications Available: May 6, 2004.

Deadline for Transmittal of Applications: June 28, 2004.

The dates and times for the transmittal of applications by mail or by hand (including a courier service or commercial carrier) are in the application package for this competition. The application package also specifies the hours of operation of the e-Application Web site.

We do not consider an application that does not comply with the deadline requirements.

Deadline for Intergovernmental Review: August 27, 2004.

4. Intergovernmental Review: This competition is subject to Executive Order 12372 and the regulations in 34 CFR Part 79. Information about Intergovernmental Review of Federal Programs under Executive Order 12372 is in the application package for this competition.

5. Funding Restrictions: We specify unallowable costs in 34 CFR 642.41. We reference additional regulations outlining funding restrictions in the Applicable Regulations section of this notice.

6. Other Submission Requirements: Instructions and requirements for the transmittal of applications by mail or by hand (including a courier service or commercial carrier) are in the application package for this competition. Application Procedures: The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under the Training Program—CFDA Number 84.103A—be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Linda Byrd-Johnson, Ph.D., U.S. Department of Education, 1990 K Street, NW., room 7085, Washington, DC 20006-8510. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications

We are continuing to expand our pilot project for electronic submission of applications to include additional formula grant programs and additional discretionary grant competitions. The Training Program—CFDA 84.103A is one of the programs included in the pilot project. If you are an applicant under the Training Program—CFDA 84.103A you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operations. We strongly recommend that you do not wait until the application deadline date to initiate an e-Application package.

• You will not receive additional point value because you submit a grant application in electronic format, nor will we penalize you if you submit an application in paper format.

• You must submit all documents electronically, including the Application for Federal Education Assistance and Supplement to Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The applicant's Authorizing Representative must sign this form.

3. Place the PR/Award number in the upper right hand corner of the hard copy signature page of the ED 424.

4. Fax the signed ED 424 to the Application Control Center at (202) 260-1349.

• We may request that you give us original signatures on all other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the persons listed elsewhere in this notice under For Further Information Contact (see VII. Agency Contacts) or (2) the e-GRANTS help desk at 1-888-336-8930.

You may access the electronic grant application for the Training Program—CFDA 84.103A at: http://e-grants.ed.gov.

V. Application Review Information

1. Selection Criteria: The selection criteria for this program competition are in 34 CFR Part 642.31 and the application package.

Note: For the FY 2004 competition, the Secretary has identified need for training projects through the selection of five absolute priorities. Therefore, the Secretary will consider that an applicant has satisfied the “need” criterion listed in 34 CFR 642.31(f) by applying for a grant under one of these priorities, and applicants do not have to address this criterion. The application package contains instructions on addressing the selection criteria.

2. Review and Selection Process: Within the specific absolute priority for which a grant is requested, the Secretary will select an application for funding in rank-order based on the application's total score for the selection criteria and the applicant's prior experience, pursuant to 34 CFR 642.30-646.32. Within each absolute priority, if there are applications with the same total scores, the Secretary will select for funding the applicant that has the greatest capacity to provide training in all regions of the Nation in order to assure accessibility to prospective training participants.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must provide an annual performance report that provides the most current performance and financial expenditure information as specified by the Secretary in 34 CFR 75.118.

4. Performance Measures: The success of the Training Program will be measured by its cost-effectiveness, based on the percentage of TRIO personnel receiving training each year and by the percentage of those receiving training who rate the training as highly useful. All grantees will be expected to submit an annual performance report documenting their success in training TRIO personnel, including the average cost per trainee and the trainees' evaluations of the effectiveness of the training provided.

VII. Agency Contacts

FOR FURTHER INFORMATION CONTACT: Patricia S. Lucas or Virginia A. Mason, U.S. Department of Education, 1990 K Street, NW., suite 7000, Washington, DC 20006-8510. Telephone: (202) 502-7600 or by e-mail: TRIO@ed.gov

If you use a telecommunications device for the deaf (TDD), you may call the Federal Information Relay Service (FIRS) at 1-800-877-8339.

Individuals with disabilities may obtain this document in an alternative format (e.g., Braille, large print, audiotape, or computer diskette) on request to one of the program contact persons listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: April 5, 2004.
Sally L. Stroup,
Assistant Secretary for Postsecondary Education.

[FR Doc. 04-8021 Filed 4-7-04; 8:45 am]

BILLING CODE 4000-01-P